DEPARTMENT OF JUSTICE

Notice of Lodging of Consent Decree Under the Comprehensive Environmental Response Compensation and Liability Act

Pursuant to 28 CFR § 507 notice is hereby given that on November 2, 2007, a proposed Consent Decree in the case United States v. Honeywell International Inc., Civil Action No. 07-81036 (Civ-Zloch), was lodged with the United States District Court for the Southern District of Florida.

In this action, under Sections 106 and 107 of the Comprehensive Environmental Response, Compensation, and Liability Act, 42 U.S.C. 9606 and 9607, the United States sought injunctive relief and recovery of response costs to remedy conditions in connection with the release or threatened release of hazardous substances into the environment at the Solitron Devices Superfund alternative Site located in Riviera Beach, Florida (``the Site'').

The proposed consent decree requires defendant Honeywell International, Inc. to fully perform the final remedy for the Site and Pay all future response costs.

The Department of Justice will receive for a period of thirty (30) days from the date of this publication comments relating to the proposed Consent Decree. Comments should be addressed to the assistant Attorney General, Environment and Natural Resources Division, and either e-mailed to pubcomment.ess.enrd@usdoj.gov or mailed to U.S. Department of Justice, P.O. Box 7611, Washington, DC 20044-7611, and should refer to United States v. Honeywell International Inc., D.J. Ref. 90-11-2-06699/2.

The proposed Consent Decree may be examined at U.S. Environmental Protection Agency, Region IV, 61 Forsythe Street Atlanta, Georgia, 30303. During the public comment period, the Consent Decree, may also be examined on the following Department of Justice Web site, http://www.usdoj.gov/enrd/open.html.

A copy of the proposed Consent Decree may also be obtained by mail from the Consent Decree Library, P.O. Box 7611, U.S. Department of Justice, Washington, DC 20044-7611, or by faxing Tonia Fleetwood at fax no. (202) 514-0097 (phone confirmation number (202) 514-1547) or by e-mailing Tonia Fleetwood at tonia.fleetwood@usdoj.gov. In requesting a copy of the Consent Decree from the Consent Decree Library, please enclose a check in the amount of $52.50 (25 cents per page reproduction cost × 210 pages) payable to the U.S. Treasury. In requesting a copy of the Consent Decree, exclusive of exhibits, please enclose a check in the amount of $20.25 (25 cents per page reproduction cost × 81 pages) payable to the U.S. Treasury.

Henry S. Friedman,
Assistant Section Chief, Environmental Enforcement Section.

[FR Doc. 07-5691 Filed 11-15-07; 8:45 am]

BILLING CODE 4410-15-M